ENVIRONMENTAL PROTECTION AGENCY

[FRL-8311-5]

Coastal Elevations and Sea Level Rise Advisory Committee Meeting

AGENCY: Environmental Protection Agency (EPA).

ACTION: Notice of meeting.

SUMMARY: Under the Federal Advisory Committee Act (Pub. L. 92-463), EPA gives notice of a public meeting of the Coastal Elevations and Sea Level Rise Advisory Committee (CESLAC).

DATES: The meeting will be held on Friday, June 8, 2007, from 8:30 a.m. until 3 p.m. Registration will begin at 7:30 a.m.

ADDRESSES: The meeting will be held at the Renaissance Portsmouth Hotel & Conference Center, 425 Water Street, Portsmouth, Virginia 23704.

FOR FURTHER INFORMATION CONTACT: Jack Fitzgerald, Designated Federal Officer, Climate Change Division, Mail Code 6207J, Office of Atmospheric Programs, Environmental Protection Agency, 1200 Pennsylvania Avenue, NW., Washington, DC 20460; e-mail address: Fitzgerald.jack@epa.gov, telephone number (202) 343-9336, fax: (202) 343-2337.

SUPPLEMENTARY INFORMATION: The purpose of CESLAC is to provide advice on the conduct of a study titled Coastal Elevations and Sensitivity to Sea Level Rise which is being conducted as part of the U.S. Climate Change Science Program (CCSP). The study pays particular attention to the coastal area of the U.S. from the state of New York through North Carolina. A copy of the study prospectus is available at http://www.climatescience.gov/Library/sap/sap4-1/default.php. A copy of the Committee Charter is available at http://www.fido.gov/facadatabase/. This is the second meeting of CESLAC. The meeting will focus on consideration of a draft of the study. The agenda will include presentations on, and discussions of, the material prepared to address the four key questions addressed by the study and, to a lesser extent, the five supplemental questions addressed by the study. Interested individuals should refer to the study prospectus for information on these questions. One hour of the meeting will be allocated for statements by members of the public. Individuals who are interested in making statements should inform Jack Fitzgerald of their interest by Tuesday, May 29, and provide a copy of their statements for the record. Individuals will be scheduled in the order that their statements of intent to present are received. A minimum of three minutes will be provided for each statement. The maximum amount of time will depend on the number of statements to be made. All statements, regardless of whether there is sufficient time to present them orally, will be included in the record and considered by the committee. For information on access or services for individuals with disabilities, please contact Jack Fitzgerald at either the phone number or e-mail address provided under FOR FURTHER INFORMATION CONTACT. To request accommodation of a disability, please also contact Jack Fitzgerald, preferably at least ten days prior to the meeting, to give EPA as much time as possible to process your request.

Dated: May 3, 2007.
Jack Fitzgerald,
Designated Federal Officer.

[FR Doc. E7-9016 Filed 5-9-07; 8:45 am]

BILLING CODE 6560-50-P